FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement Nos.: 010050-014.

Title: U.S. Flag Discussion Agreement.

Parties: American President Lines, Ltd.; A.P. Moller-Maersk A/S; Farrell Lines Inc.; Lykes Lines Limited, LLC; and P&O Nedlloyd Limited.

Filing Party: Wayne R. Rohde, Esq.; Sher &Blackwell; 1850 M Street, NW., Suite 900; Washington, DC 20036.

Synopsis: The amendment deletes Ukraine from the geographic scope of the agreement.

Agreement No.: 010776-127.

Title: Asia North America Eastbound Rate Agreement.

Parties: American President Lines, Ltd.; APL Co. Pte Ltd.; Hapag-Lloyd Container Line GmbH; Kawasaki Kisen Kaisha, Ltd.; Mitsui O.S.K. Lines, Ltd.; A. P. Moller-Maersk A/S; Nippon Yusen Kaisha Line; Orient Overseas Container Line Limited; P&O Nedlloyd B.V.; and P&O Nedlloyd Limited.

Filing Party: David F. Smith, Esq.; Sher & Blackwell; 1850 M Street, NW., Suite 900; Washington, DC 20036.

Synopsis: The modification extends the suspension of the conference through November 1, 2005.

Agreement No.: 011284-056.

Title: Ocean Carrier Equipment Management Association Agreement (“OCEMA”).

Parties: APL Co. Pte. Ltd.; American President Lines, Ltd.; A.P. Moller-Maersk A/S, trading under the name of Maersk Sealand; CMA CGM, S.A.; Compania Sudamericana deVapores, S.A.; Evergreen Marine Corp. (Taiwan) Ltd.; Hanjin Shipping Co., Ltd.; Hamburg-Sud; Hapag-Lloyd Container Linie GmbH; Hyundai Merchant Marine Co. Ltd.; Mitsui O.S.K. Lines Ltd.; Lykes Lines Limited, LLC; TMM Lines Limited, LLC; Contship Containerlines, a division of CP Ships (UK) Limited; Australia-New Zealand Direct Line, a division of CP Ships (UK) Limited; Orient Overseas Container Line Limited; P&O Nedlloyd Limited; P&O Nedlloyd B.V.; Nippon Yusen Kaisha Line; Yangming Marine Transport Corp.; COSCO Containerlines Company Limited; and Kawasaki Kisen Kaisha, Ltd.

Filing Party: Jeffrey F. Lawrence, Esq.; and Donald J. Kassilke, Esq.; Sher & Blackwell LLP; 1850 M Street, NW., Suite 900; Washington, DC 20036.

Synopsis: The agreement removes Crowley Maritime Corporation as a party to the agreement.

Agreement No.: 011325-031.

Title: Westbound Transpacific Stabilization Agreement.

Parties: American President Lines, Ltd.; APL Co. Pte Ltd.; China Shipping Container Lines Co., Ltd.; COSCO Container Lines Company Limited; Evergreen Marine Corporation (Taiwan), Ltd.; Hanjin Shipping Co., Ltd.; Hapag-Lloyd Container Line GmbH; Kawasaki Kisen Kaisha, Ltd.; Mitsui O.S.K. Lines, Ltd.; A. P. Hyundai Merchant Marine Co. Ltd.; Kawasaki Kisen Kaisha Ltd.; Mitsui O.S.K. Lines, Ltd.; Nippon Yusen Kaisha Line; Orient Overseas Container Line Limited; P&O Nedlloyd B.V.; P&O Nedlloyd Limited and Yangming Marine Transport Corp.

Filing Party: David F. Smith, Esq.; Sher & Blackwell; 1850 M Street, NW., Suite 900; Washington, DC 20036.

Synopsis: The amendment adds a provision setting forth a means of allocating certain penalties in the event the agreement is held liable.

Agreement No.: 201149-001.

Title: Port Inland Distribution Network Service Agreement Between the Port Authority of New York & New Jersey and the Albany Port District Commission.

Parties: The Port Authority of New York and New Jersey (“PANYNJ”); and The Albany Port District Commission (“APDC”).

Filing Party: Paul M. Donovan, Esq.; LaRoe, Winn, Moerman & Donovan; 4135 Parkglen Court, NW., Washington, DC 20007.

Synopsis: The agreement modification would change the procedures under which the PANYNJ will make payments to the APDC. The parties request expedited review.

Dated: April 15, 2005.
By Order of the Federal Maritime Commission.
Bryant L VanBrakle,
Secretary.

[FR Doc. 05-7940 Filed 4-19-05; 8:45 am]

BILLING CODE 6730-01-P